FEDERAL EMERGENCY MANAGEMENT AGENCY

44 CFR Part 67

Final Flood Elevation Determinations

AGENCY: Federal Emergency Management Agency (FEMA).

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Mike M. Grimm, Acting, Chief, Hazards Study Branch, Federal Insurance and Mitigation Administration, FEMA, 500 C Street SW., Washington, DC 20472, (202) 646-3461, or (e-mail) mike.grimm@fema.gov.

SUPPLEMENTARY INFORMATION: FEMA makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with Section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Administrator, Federal Insurance and Mitigation Administration certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD).
ALASKA
Matanuska-Susitna (City), Borough County (FEMA Docket No. B-7318)
Talkeetna River Overflow:
Just west of Talkeetna Spur Highway | *341
At East Bank of Talkeetna River | *351
Maps are available for inspection at the Code Compliance Department, 350 East Dahlia Avenue, Palmer, Alaska.
CALIFORNIA
Tehama County and Incorporated Areas, (FEMA Docket No. B-7430)
Reeds Creek:
Approximately 250 feet upstream of Paskenta Road | *285
Approximately 1,000 feet upstream of confluence of Pine Creek | *309
Maps are available for inspection at the Tehama County Building Department, 444 Oak Street, Red Bluff, California.
MISSOURI
Clay County and Incorporated Areas, (FEMA Docket No. B-7427)
East Fork Fishing River:
Confluence with Fishing River | *745
Just upstream of 112th Street | *749
Approximately 3,800 feet downstream of Seabold Road | *756
Fishing River:
Just upstream of Clay/Ray County Border | *730
Just upstream of Jesse James Farm Road | *778
Just downstream of Interstate 35 bridge | *788
Approximately 4,800 feet upstream of Highway A | *859
Crockett Creek:
Approximately 250 feet upstream of confluence with Holmes Creek | *772
Just downstream of 12th Street | *783
Just upstream of Stockdale Road | *790
Holmes Creek:
Approximately 250 feet upstream confluence of Crockett Creek | *772
Just upstream of Summersette Road | *777
Just upstream of Highway 33 | *813
Clear Creek:
Confluence with Fishing River | *777
Just upstream of 140th Street bridge | *778
Just downstream of Interstate 35 | *794
Approximately 6,300 feet upstream of Nation Road | *824
First Creek:
Confluence with Second Creek (Approximately 1,000 feet downstream of Highway 92 bridge) | *818
Just upstream of 144th Street bridge | *851
Approximately 2,600 feet upstream of 144th Street bridge | *860
Second Creek:
Approximately 1,550 feet upstream of Main Street | *814
Confluence of First Creek (Approximately 1,000 feet downstream of Highway 92 bridge) | *818
Rocky Branch:
Approximately 1,150 feet upstream from confluence with Wilkerson Creek | *846
Polecat Creek:
Confluence with Wilkerson Creek | *881
Approximately 2,500 feet upstream of Mt. Olive Road | *932
Wilkerson Creek:
Approximately 1,500 feet upstream of confluence with Little Platte River | *816
Just downstream of Highway 92 | *840
Approximately 5,000 feet upstream of 132nd Street bridge | *906
Maps are available for inspection at 234 West Shrader Street, Suite C., Liberty, Missouri.
———
Excelsior Springs (City), Clay County, (FEMA Docket No. B-7427)
East Fork Fishing River:
Approximately 3,800 feet downstream of Seabold Road | *756
Just upstream of Seabold Road | *759
Maps are available for inspection at City Hall, 201 East Broadway, Excelsior Springs, Missouri.
———
Kearney (City), Clay County, (FEMA Docket No. B-7427)
Fishing River:
Approximately 5,000 feet downstream of Highway 3 | *780
Just downstream of Burlington North Railroad bridge | *786
Clear Creek:
Approximately 1,150 feet downstream of Summit Street | *783
Just downstream of Interstate 35 | *794
Approximately 1,000 feet upstream of Highway 33 | *801
Maps are available for inspection at City Hall, 100 East Washington Street, Kearney, Missouri.
———
Mosby (City), Clay County, (FEMA Docket No. B-7427)
Fishing River:
Approximately 1,600 feet downstream of Mosby Road | *763
Approximately 400 feet upstream of U.S. Highway 69 | *777
Holmes Creek:
At the confluence with Fishing River | *772
Approximately 350 feet upstream of West Mosby Road | *772
Crockett Creek:
Confluence with Holmes Creek | *772
Approximately 350 feet upstream of the confluence with Holmes Creek | *772
Maps are available for inspection at City Hall, 12312 4th Street, Mosby, Missouri.
———
Prathersville (Village), Clay County, (FEMA Docket No. B-7427)
Fishing River:
Approximately 6,600 feet downstream of Highway H | *752
Just downstream of Highway H | *757
Approximately 1,600 feet downstream of Mosby Road | *764
Williams Creek:
At the confluence with Fishing River | *760
Approximately 550 feet upstream of the Chicago Rock Island and Pacific Railroad | *764
Maps are available for inspection at City Hall, 12212 County Road, Excelsior Springs, Missouri.
———
Smithville (City), Clay County, (FEMA Docket No. B-7427)
First Creek:
Approximately 2,900 feet upstream of 144th Street | *861
Rocky Branch:
Confluence with Wilkerson Creek | *846
Just upstream of 140th Street | *865
Wilkerson Creek:
Confluence with Little Platte River | *814
Approximately 1,500 feet downstream of 144th Street bridge | *851
Second Creek:
Confluence with Little Platte River | *814
Approximately 1,550 feet upstream from Main Street | *814
Maps are available for inspection at City Hall, 107 Main Street, Smithville, Missouri.
NORTH DAKOTA
Langdon (City), Cavalier County, (FEMA Docket No. B-7430)
Mulberry Creek:
Approximately 250 feet downstream of Highway 5 | +1,597
Confluence of 5th Street Coulee | +1,600
Just downstream of Highway 1 | +1,608
ND Highway 1 Ditch:
Approximately 450 feet upstream of Simplot Crossing | +1,609
Approximately 1,500 feet upstream of Highway | +1,612
Diversion Channel:
Approximately 300 feet downstream of 10th Street | +1,610
Approximately 700 feet upstream of 10th Street | +1,612
5th Street Coulee:
Confluence with Mulberry Creek | +1,600
Just downstream of 12th Avenue | +1,605
Approximately 1,400 feet upstream of 18th Avenue | +1,609
Maps are available for inspection at City Hall, 324 Eighth Avenue, Langdon, North Dakota.
SOUTH DAKOTA
Minnehaha County and Incorporated Areas, (FEMA Docket No. B-7430)
Skunk Creek:
Approximately 4,400 feet downstream of U.S. Highway 16 | *1,431
Just upstream of County Route 139 | *1,444
Approximately 150 feet upstream of County Route 142 | *1,448
Maps are available for inspection at the County Administration Building, 415 North Dakota Avenue, Sioux Falls, South Dakota.
———
Hill City (City), Pennington County (FEMA Docket No. B-7424)
Spring Creek:
At approximately 50 feet upstream of Hill City power line located at approximately 2,000 feet upstream of U.S. Highway 385 and 16 | *4,937
At approximately 1,400 feet upstream of Poplar Street and Bishop Mountain Avenue Intersection | *5,013
Newton Fork Creek:
At Museum Drive | *4,967
Approximately 1,900 feet upstream of Museum Drive | *4,981
Maps are available for inspection at the City Hall, 324 Main Street, Hill City, South Dakota.

Source of flooding and location | #Depth in feet above ground. *Elevation in feet (NGVD) +Elevation in feet (NAVD) | Communities affected
NEW MEXICO
Quay County and Incorporated Areas, (FEMA Docket No. B-7430)
Arroyo 1:
Confluence with Lake Tucumcari | +4,016 | Quay County (Uninc. Areas).
Just downstream Chicago Rock Island and Pacific Railroad | +4,040 |
Arroyo 1A:
Confluence with Arroyo 1 | +4,033 | Quay County (Uninc. Areas).
Approximately 245 feet upstream of Quay Road AL | +4,080 |
Arroyo 2:
Confluence with Lake Tucumcari | +4,016 | Quay County (Uninc. Areas).
Approximately 4,100 feet upstream of confluence with Lake Tucumcari | +4,043 |
Arroyo 3:
Confluence with Lake Tucumcari | +4,016 | Quay County (Uninc. Areas), City of Tucumcari.
Approximately 1,750 feet upstream of U.S. Highway 54 | +4,079 |
Arroyo 4:
Confluence with Lake Tucumcari | +4,016 | Quay County (Uninc. Areas), City of Tucumcari.
Just downstream of New Mexico Highway 18 | +4,139 |
Arroyo 4D:
Confluence with Arroyo 4 | +4,036 | Quay County (Uninc. Areas).
Approximately 650 feet upstream of U.S. Interstate 40 | +4,063 |
Arroyo 4D Overflow:
Confluence with Lake Tucumcari | +4,016 | Quay County (Uninc. Areas), City of Tucumcari.
Just downstream of Tucumcari Boulevard | +4,033 |
Confluence with Lake Tucumcari | +4,016 |
Approximately 420 feet downstream of Laughlin Avenue | +4,023 |
Arroyo 4F (Rankin Draw):
Just upstream of Tucumcari Boulevard | +4,034 | Quay County (Uninc. Areas), City of Tucumcari.
Approximately 180 feet upstream of South Monroe Street | +4,089 |
Arroyo 5:
Approximately 2,300 feet downstream of Chicago Rock Island and Pacific Railroad | +4,057 | Quay County (Uninc. Areas), City of Tucumcari.
Approximately 2,650 feet upstream of the confluence of Arroyo 5B | +4,159 |
Arroyo 5B:
Confluence with Arroyo 5 | +4,124 | Quay County (Uninc. Areas).
Approximately 1,900 feet upstream of the confluence with Arroyo 5 | +4,150 |
Arroyo 6:
Approximately 2,850 feet downstream of Chicago Rock Island and Pacific Railroad | +4,068 | Quay County (Uninc. Areas), City of Tucumcari.
Approximately 4,100 feet upstream of Eastbound Interstate 40 | +4,185 |
Arroyo 6A:
Confluence with Arroyo 6 | +4,096 | Quay County (Uninc. Areas), City of Tucumcari.
Approximately 2,500 feet upstream of I-40 Ramp A | +4,169 |
Arroyo 7 (Bluewater Creek):
Approximately 2,600 feet downstream of confluence of Arroyo 7A | +4,061 | Quay County (Uninc. Areas), City of Tucumcari.
Approximately 4,500 feet upstream of confluence of Arroyo 7B | +4,109 |
Arroyo 7B:
At confluence with Arroyo 7 | +4,091 | Quay County (Uninc. Areas), City of Tucumcari.
Approximately 3,500 feet upstream of confluence of Arroyo 7C | +4,131 |
Arroyo 7C:
At confluence with Arroyo 7B | +4,108 | Quay County (Uninc. Areas), City of Tucumcari.
At Chicago Rock Island and Pacific Railroad | +4,155 |
San Jon Creek:
Approximately 1,000 feet upstream of sewage disposal area | +4,021 | Village of San Jon and Quay County (Uninc. Areas).
Approximately 450 feet downstream of Fourth Street | +4,034 |
ADDRESSES
Quay County (Unincorporated Areas)
Maps are available for inspection at Quay County Clerks Office, 300 South 3rd Street, Tucumcari, New Mexico.
City of Tucumcari:
Maps are available for inspection at City Hall, 512 South 8th Street, Tucumcari, New Mexico.
Village of San Jon:
Maps are available for inspection at City Hall, 507 Elm Avenue, San Jon, New Mexico.
OKLAHOMA
Kingfisher County and Incorporated Areas, (FEMA Docket No. B-7430)
Cimarron River:
Approximately 9,000 feet downstream of the confluence with Campbell Creek | *969 | Kingfisher County (Uninc. Areas).
Approximately 750 feet downstream of County Road NS282 | *1,044 |
Approximately 2,800 feet upstream of County Road EW60 | *1,120 |
Kingfisher Creek:
At confluence with Cimarron River | *1,018 | Kingfisher County (Uninc. Areas), City of Kingfisher.
Approximately 1,000 feet downstream of 13th Street | *1,047 |
Little Turkey Creek:
Approximately 1,000 feet upstream of County Road EW68 | *1,063 | Kingfisher County (Uninc. Areas).
Approximately 3,200 feet upstream of State Highway 81 | *1,116 |
Turkey Creek (Main Channel):
Approximately 60 feet upstream of County Road EW715 | *1,038 | Kingfisher County (Uninc. Areas).
Approximately 4,500 feet upstream of U.S. Highway 81 | *1,093 |
Turkey Creek Split Flow:
Approximately 2,400 feet downstream of U.S. Route 81 | *1,028 | Kingfisher County (Uninc. Areas), Town of Dover.
Approximately 1,400 feet upstream of County Road EW71 | *1,043 |
ADDRESSES
Kingfisher County (Unincorporated Areas)
Maps are available for inspection at the Kingfisher County Floodplain Administrator's Office, County Courthouse, 101 South Main Street, Room 5, Kingfisher, Oklahoma.
City of Kingfisher:
Maps are available for inspection at City Hall, 301 North Main Street, Kingfisher, Oklahoma.
Town of Dover:
Maps are available for inspection at the Town Hall, 101 North Chisholm, Dover, Oklahoma.

(Catalog of Federal Domestic Assistance No. 83.100, “Flood Insurance.”)
Dated: December 31, 2002.
Anthony S. Lowe,
Administrator, Federal Insurance and Mitigation Administration.

[FR Doc. 03-604 Filed 1-10-03; 8:45 am]

BILLING CODE 6718-04-P